DEPARTMENT OF ENERGY

Federal Energy Regulatory Commission

[Docket No. RP03-512-000]

Columbia Gulf Transmission Company; Notice of Proposed Changes in FERC Gas Tariff

June 5, 2003.

Take notice that on May 30, 2003, Columbia Gulf Transmission Company (Columbia Gulf) tendered for filing as part of its FERC Gas Tariff, Second Revised Volume No. 1, the following revised tariff sheets, bearing a proposed effective date of July 1, 2003:

Sixth Revised Sheet No. 144

Second Revised Sheet No. 144A

Fourth Revised Sheet No. 318

Columbia Gulf states that it is submitting this filing to include in its Tariff new provisions permitting Columbia Gulf to agree with its shippers, on a not unduly discriminatory basis, to a contractual right of first refusal (“ROFR”), equivalent to the ROFR right set forth from time to time in Section 4 of the General Terms and Conditions of its Tariff, for service agreements that have a term of 12 or more consecutive months of service but bear a rate that is either discounted or negotiated.

Columbia Gulf states that copies of its filing have been mailed to all firm customers, interruptible customers and affected state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: June 11, 2003.

Magalie R. Salas,
Secretary.

[FR Doc. 03-14772 Filed 6-10-03; 8:45 am]

BILLING CODE 6717-01-P